DEPARTMENT OF LABOR

Occupational Safety and Health Administration

[Docket No. OSHA-2006-0040]

SGS North America, Inc.: Application for Expansion of Recognition

AGENCY: Occupational Safety and Health Administration (OSHA), Labor.

ACTION: Notice.

SUMMARY: In this notice, OSHA announces the application of SGS North America, Inc., for expansion of recognition as a Nationally Recognized Testing Laboratory (NRTL) and presents the agency's preliminary finding to deny the application.

DATES: Submit comments, information, and documents in response to this notice, or requests for an extension of time to make a submission, on or before August 21, 2024.

ADDRESSES: Comments may be submitted as follows:

Electronically: You may submit comments, including attachments, electronically at http://www.regulations.gov, the Federal eRulemaking Portal. Follow the online instructions for submitting comments.

Instructions: All submissions must include the agency's name and the docket number for this rulemaking (Docket No. OSHA-2006-0040). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before August 21, 2024 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor; phone: (202) 693-1911 or email: robinson.kevin@dol.gov.

SUPPLEMENTARY INFORMATION:

I. Notice of the Application for Expansion

The Occupational Safety and Health Administration is providing notice that SGS North America, Inc. (SGS) is applying for an expansion of the current recognition as a NRTL. SGS requests the addition of two test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including SGS, which details the NRTL's scope of recognition. These pages are available from the OSHA website at http://www.osha.gov/dts/otpca/nrtl/index.html.

SGS currently has nine facilities (sites) recognized by OSHA for product testing and certification, with the headquarters located at: SGS North America, Inc., 620 Old Peachtree Road, Suwanee, Georgia 30024. A complete list of SGS's scope of recognition is available at https://www.osha.gov/dts/otpca/nrtl/sgs.html.

II. General Background on the Application

SGS submitted an application to OSHA to expand recognition as a NRTL to include two additional test standards on September 1, 2021 (OSHA-2006-0040-0079). OSHA staff performed a detailed analysis of the application packet and reviewed other pertinent information. OSHA did not perform any on-site reviews in relation to this application.

Table 1 lists the test standards included in SGS's application for expansion for testing and certification of products under the NRTL Program.

Table 1—Test Standards in SGS's Application for Expansion of its NRTL Scope of Recognition
Test standard | Test standard title
IEC 60335-2-23 | Household and Similar Electrical Appliances—Safety—Part 2-23: Particular Requirements for Appliances for Skin or Hair Care.
IEC 60335-2-30 | Household and Similar Electrical Appliances—Safety—Part 2-30: Particular Requirements for Room Heaters.

If OSHA issued a preliminary determination that SGS's application should be granted, it would also propose adding these two test standards to its list of appropriate test standards. As OSHA preliminarily denies this application (see below), it does not make such a proposal, but nonetheless seeks comment on whether these two test standards should be added to the list of appropriate test standards.

III. Preliminary Findings on the Application

OSHA has preliminarily determined that SGS has not submitted an acceptable application for expansion of the scope of recognition. OSHA's review of the application file and pertinent documentation indicates that the test standards requested in the expansion application do not meet the requirements prescribed by 29 CFR 1910.7 for expanding the recognition. Specifically, OSHA preliminarily determines that the test standards requested in this application do not meet the requirements for appropriate test standards or alternative test standards for the NRTL Program.

Pursuant to the NRTL Program regulation, 29 CFR 1910.7, for each specified item of equipment or material to be listed, labeled or accepted, a NRTL must have the capability (including proper testing equipment and facilities, trained staff, written testing procedures, and calibration and quality control programs) to perform: (i) testing and examining of equipment and materials for workplace safety purposes to determine conformance with appropriate test standards; or (ii) experimental testing and examining of equipment and materials for workplace safety purposes to determine conformance with appropriate test standards or performance in a specified manner. § 1910.7(b)(1).

An “appropriate test standard” is defined in the NRTL Program regulation as a document which specifies the safety requirements for specific equipment or class of equipment and meets one of two alternative requirements. Either the document must be (1) recognized in the United States as a safety standard providing an adequate level of safety, and (2) compatible with and maintained current with periodic revisions of applicable national codes and installation standards and (3) developed by a standards developing organization under a method providing for input and consideration of views of industry groups, experts, users, consumers, governmental authorities, and others having broad experience in the safety field involved, or the document must be currently designated as an American National Standards Institute (ANSI) safety-designated product standard or an American Society for Testing and Materials (ASTM) test standard used for evaluation of products or materials. § 1910.7(c).

Notwithstanding the requirements in § 1910.7(b)(1), if a testing laboratory desires to use an alternative test standard (that is, a test standard that is not an appropriate test standard), then OSHA evaluates the proposed standard to determine whether it provides an adequate level of safety before it may be used § 1910.7(d). If a test standard does not provide an adequate level of safety, it may not be used by a NRTL to perform testing or examining of equipment and materials for workplace safety purposes or experimental testing and examining of equipment and materials for workplace safety purposes.

The test standards requested in the expansion application, issued by the International Electrotechnical Commission (IEC), are not appropriate test standards under the NRTL program because they are not recognized in the United States as safety standards providing an adequate level of safety. To provide an adequate level of safety, these test standards would need to be evaluated for compliance with U.S. electrical safety requirements. The IEC develops standards that are broad technical safety solutions for electrical products, but this does not represent a complete safety standard for each member country. The process of adapting the IEC-based standard to a fully compliant U.S. national standard is typically conducted by a U.S.-based standards development organization (SDO), which considers the unique requirements for the U.S. market, along with the input and consideration of views of industry groups, experts, users, consumers, governmental authorities, and others having broad experience in the safety field involved (as set forth in § 1910.7(c)). This information-gathering process and evaluation has not been undertaken for the test standards in SGS's application (i.e., these test standards have not been evaluated for compliance with U.S. electrical safety requirements). Nor have these test standards been designated by ANSI or ASTM. Therefore, they do not meet the requirements for appropriate test standards under the NRTL program.

These test standards are also not alternative test standards that may be used under the NRTL program to perform testing or examining of equipment and materials for workplace safety purposes or experimental testing and examining of equipment and materials for workplace safety purposes. Again, these test standards have not been determined to provide an adequate level of safety because they have not been evaluated for compliance with U.S. electrical safety requirements.

IV. Public Participation

OSHA welcomes public comment on SGS's application for expansion of recognition as a NRTL, and whether its application meets the requirements of 29 CFR 1910.7. Comments should consist of pertinent written documents and exhibits.

Commenters needing more time to comment must submit a request in writing, stating the reasons for the request by the due date for comments. OSHA will limit any extension to 10 days unless the requester provides justification for a longer time period. OSHA may deny a request for an extension if it is not adequately justified.

To review copies of the exhibits identified in this notice, as well as comments submitted to the docket, contact the Docket Office, Occupational Safety and Health Administration, U.S. Department of Labor. These materials also are generally available online at https://www.regulations.gov under Docket No. OSHA-2006-0040 (for further information, see the “Docket” heading in the section of this notice titled ADDRESSES).

OSHA staff will review all comments to the docket submitted in a timely manner. After addressing the issues raised by these comments, staff will make a recommendation to the Assistant Secretary of Labor for Occupational Safety and Health on whether to grant SGS's application for expansion of the scope of recognition. The Assistant Secretary will make the final decision on the application. In making this decision, the Assistant Secretary may undertake other proceedings prescribed in Appendix A to 29 CFR 1910.7.

OSHA will publish a public notice of the final decision in the Federal Register.

V. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on July 30, 2024.
James S. Frederick,
Deputy Assistant Secretary of Labor for Occupational Safety and Health.

[FR Doc. 2024-17305 Filed 8-5-24; 8:45 am]

BILLING CODE 4510-26-P